DEPARTMENT OF THE INTERIOR

Fish and Wildlife Service

[FWS-R4-ES-2025-N025; FXES11140400000-256-FF04E00000]

Endangered Species; Recovery Permit Applications

AGENCY: Fish and Wildlife Service, Interior.

ACTION: Notice of receipt of permit applications; request for comments.

SUMMARY: We, the U.S. Fish and Wildlife Service (Service), have received applications for permits to conduct scientific research to promote conservation or other activities intended to enhance the propagation or survival of endangered and threatened species under the Endangered Species Act (ESA). We invite the public and local, State, Tribal, and Federal agencies to comment on these applications. Before issuing any of the requested permits, we will take into consideration any information that we receive during the public comment period.

DATES: We must receive written data or comments on the applications by October 31, 2025.

ADDRESSES:

Reviewing Documents: Submit requests for copies of applications and other information submitted with the applications to permitsr4es@fws.gov (see FOR FURTHER INFORMATION CONTACT). All requests and comments should specify the applicant's name and application number (e.g., Mary Smith, ESPER0001234).

Submitting Comments: If you wish to comment, you may submit comments by one of the following methods:

• Email (preferred method): permitsr4es@fws.gov. Please include your name and return address in your email message. If you do not receive a confirmation from the U.S. Fish and Wildlife Service that we have received your email message, contact us directly at the telephone number listed in FOR FURTHER INFORMATION CONTACT.

• U.S. mail: U.S. Fish and Wildlife Service Regional Office, Ecological Services, 1875 Century Boulevard, Atlanta, GA 30345 (Attn: Kaye London, R4 Recovery Permit Coordinator).

FOR FURTHER INFORMATION CONTACT: Kaye London via telephone at 404-679-7097 or via email at permitsr4es@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a), and the Freedom of Information Act (5 U.S.C. 552).

Background

With some exceptions, the ESA prohibits take of listed species unless a Federal permit is issued that authorizes such take. The definition of “take” in the ESA includes hunting, shooting, harming, wounding, or killing, and also such activities as pursuing, harassing, trapping, capturing, or collecting, or attempting to engage in any such conduct.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) of the ESA for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies, and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
ES41955C-2 | Anthony Miller; Lexington, KY | Mammals: Tricolored bat (Perimyotis subflavus); Fishes: Cumberland darter (Etheostoma susanae), duskytail darter (Etheostoma percnurum), Palezone shiner (Notropis albizonatus), and relict darter (Etheostoma chienense); Crustaceans: Big Sandy crayfish (Cambarus callainus) | Kentucky | Presence/probable absence surveys | Mammals: enter hibernacula and summer roost caves, capture with mist nets or harp traps, handle, identify, band, radio tag, and release; Fishes: capture via hand nets and seines, handle, identify, and release; Crustaceans: capture, handle, and release | Amendment.
ES12174D-1 | Joshua Allen; Easton, KS | Gray bat (Myotis grisescens), Indiana bat (Myotis sodalis), northern long-eared bat (Myotis septentrionalis), and tricolored bat (Perimyotis subflavus) | Throughout the ranges of the species | Presence/probable absence surveys | Capture with mist nets, handle, identify, band, radio tag, and release | Renewal and amendment.
ES16876D-2 | Kristen Clemens; Lexington, KY | Gray bat (Myotis grisescens), Indiana bat (Myotis sodalis), and northern long-eared bat (Myotis septentrionalis) | Throughout the ranges of the species | Presence/probable absence surveys | Capture with mist nets, handle, identify, band, radio tag, and release | Renewal.
ES125521-6 | Department of Natural and Environmental Resources; San Juan, PR | Puerto Rican parrot (Amazona vittata) | Puerto Rico | Captive propagation, translocation, and reintroduction | Remove eggs and chicks from the wild, handle, transport, hold in captivity for over 45 consecutive days, and release | Renewal and amendment.
PER14091004-0 | Kelly Wilder; Woodstock, GA | Gray bat (Myotis grisescens), Indiana bat (Myotis sodalis), northern long-eared bat (Myotis septentrionalis), and tricolored bat (Perimyotis subflavus) | Throughout the ranges of the species | Presence/probable absence surveys | Enter hibernacula, maternity roost caves, or other roosts, capture with mist nets, handle, identify, band, radio tag, swab, and release | New.
ES171594-2 | Wetland Sciences, Inc.; Pensacola, FL | Alabama beach mouse (Peromyscus polionotus ammobates), Choctawatchee beach mouse (Peromyscus polionotus allophrys), and Perdido Key beach mouse (Peromyscus polionotus trissyllepsis) | Alabama and Florida | Presence/probable absence surveys | Trap, mark, examine, and release | Renewal.
ES37663B-2 | Rebecca Ijames; Central City, KY | Gray bat (Myotis grisescens) and tricolored bat (Perimyotis subflavus) | Indiana, Kentucky, Missouri, Ohio, and Tennessee | Presence/probable absence surveys | Enter maternity roost sites, capture, handle, identify, band, radio tag, and release | Renewal and amendment.
ES35313B-7 | Emily Willcox; Knoxville, TN | Gray bat (Myotis grisescens), Indiana bat (Myotis sodalis), and northern long-eared bat (Myotis septentrionalis) | Throughout the ranges of the species | Bat roosting, foraging ecology, and white-nose syndrome studies | Enter hibernacula or maternity roost caves, capture, handle, identify, band, tag, collect biological samples, and release | Renewal.
ES059008-11 | CCR Environmental, Inc.; Atlanta, GA | Fishes: Cape Fear shiner (Notropis mekistocholas), Carolina madtom (Noturus furiosus), Barrens topminnow (Fundulus julisia), Mussels: fluted kidneyshell (Ptychobranchus subtentus), Canoe Creek clubshell (Pleurobema athearni), Cumberland pigtoe (Pleuronaia gibber), and southern elktoe (Alasmidonta triangulata); Amphibian: black warrior waterdog (Necturus alabamensis) | Alabama, Arkansas, Florida, Georgia, Kentucky, Louisiana, Mississippi, and Tennessee | Presence/probable absence surveys | Capture, handle, identify, release, and salvage relic shells | Renewal and amendment.
ES100012-7 | Alabama Coastal Foundation; Mobile, AL | Green sea turtle (Chelonia mydas), Kemp's ridley sea turtle (Lepidochelys kempi), and loggerhead sea turtle (Caretta caretta) | Alabama | Monitoring and protecting of nests | Locate, monitor, excavate, relocate nests, and release nestlings | Renewal and amendment.
ES63633A-7 | Biodiversity Research Institute; Portland, ME | Gray bat (Myotis grisescens), Indiana bat (Myotis sodalis), northern long-eared bat (Myotis septentrionalis), and tricolored bat (Perimyotis subflavus) | Throughout the ranges of the species | Presence/probable absence surveys and scientific research | Enter hibernacula or maternity roost caves, capture, handle, identify, collect biological samples, band, radio tag, and release | Renewal and amendment.
ES41910B-4 | Scott Rush; Starkville, MS | Gray bat (Myotis grisescens), Indiana bat (Myotis sodalis), and northern long-eared bat (Myotis septentrionalis) | Alabama, Mississippi, and Tennessee | Presence/probable absence surveys and contaminant studies | Capture, handle, identify, radio tag, and release | Renewal and amendment.
ES56515D-2 | Leslie Meade; Richmond, KY | Gray bat (Myotis grisescens), Indiana bat (Myotis sodalis), northern long-eared bat (Myotis septentrionalis), Ozark big-eared bat (Corynorhinus townsendii ingens), and Virginia big-eared bat (Corynorhinus townsendii virginianus) | Throughout the ranges of the species | Presence/probable absence surveys, studies to document habitat use, population monitoring, and impacts of white-nose syndrome or other threats | Enter hibernacula or maternity roost caves, capture, handle, identify, band, radio tag, collect biological samples, and release | Renewal and amendment.
ES02166C-4 | Zoe Bryant; St. Augustine, FL | Gray bat (Myotis grisescens), Indiana bat (Myotis sodalis), northern long-eared bat (Myotis septentrionalis), Ozark big-eared bat (Corynorhinus townsendii ingens), and tricolored bat (Perimyotis subflavus) | Throughout the ranges of the species | Presence/probable absence surveys | Enter hibernacula or maternity roost caves, capture, handle, identify, band, radio tag, and release | Amendment.
PER16404210-0 | Jesse Corey; Raleigh, NC | Mammals: gray bat (Myotis grisescens), Indiana bat (Myotis sodalis), northern long-eared bat (Myotis septentrionalis), tricolored bat (Perimyotis subflavus), and Virginia big-eared bat (Corynorhinus townsendii virginianus); Carolina northern flying squirrel (Glaucomys sabrinus coloratus); Salamanders: eastern hellbender (Cryptobranchus alleganiensis alleganiensis); Fishes: Carolina madtom (Noturus furiousus) | North Carolina | Presence/probable absence surveys and mark-recapture surveys | Bats: enter hibernacula or maternity roost caves, capture, handle, identify, band, radio tag, collect biological samples, and release; Carolina northern flying squirrel: capture, handle, identify, mark, release, and install and maintain nest boxes; Eastern hellbender: capture, mark, collect biological samples, and release; Carolina madtom: capture, handle, identify, and release | New.
ES100070-4 | USDA Forest Service; Double Springs, AL | Mammals: gray bat (Myotis grisescens), Indiana bat (Myotis sodalis), northern long-eared bat (Myotis septentrionalis); Fish: rush darter (Etheostoma phytophilum); Black Warrior waterdog (Necturus alabamensis); Mussels: dark pigtoe (Pleurobema furvum) and triangular kidneyshell (Ptychobranchus greenii); Flowering Plants: fleshy-fruit gladecress (Leavenworthia crassa) | National Forests in Alabama | Presence/probable absence surveys, studies to document habitat use, and population monitoring | Bats: enter hibernacula or maternity roost caves, capture, handle, identify, band, radio tag, collect biological samples, and release; Black Warrior waterdog and rush darter: capture, handle, and release; Mussels: capture, handle, release, and salvage relic shells; Flowering Plants: reduce and remove to possession (collect) | Renewal and amendment.
ES32394A-2 | Florida, Department of Environmental Protection; Apopka, FL | Anastasia Island beach mouse (Peromyscus polionotus phasma) and southeastern beach mouse (Peromyscus polionotus niveiventris) | Florida | Presence probable absence surveys | Trap, mark, examine, and release | Renewal.
ES62026D-4 | Catherine Haase; Clarksville, TN | Gray bat (Myotis grisescens), Indiana bat (Myotis sodalis), tricolored bat (Perimyotis subflavus), and northern long-eared bat (Myotis septentrionalis) | Kentucky and Tennessee | Assess bat community structure and habitat use | Capture, handle, identify, radio tag, and release | Renewal and amendment.
ES064856-5 | Trent Farris; Gulf Shores, AL | Alabama beach mouse (Peromyscus polionotus ammobates), Choctawatchee beach mouse (Peromyscus polionotus allophrys), Perdido Key beach mouse (Peromyscus polionotus trissyllepsis), and St. Andrew beach mouse (Peromyscus polionotus peninsularis) | Alabama and Florida | Presence/probable absence surveys | Trap, mark, examine, and release | Renewal.
ES68616B-4 | Carla Atkinson; Tuscaloosa, AL | Mussels: Alabama hickorynut (Obovaria unicolor), Alabama lampmussel (Lampsilis virescens), Coosa moccasinshell (Medionidus parvulus), cracking pearlymussel (Hemistena lata), Cumberlandian combshell (Epioblasma brevidens), dark pigtoe (Pleurobema furvum), fat threeridge (Amblema neislerii), finerayed pigtoe (Fusconaia cuneolus), fluted kidneyshell (Ptychobranchus subtentus), Georgia pigtoe (Pleurobema hanleyianum), Gulf moccasinshell (Medionidus penicillatus), heavy pigtoe (Pleurobema taitianum), oval pigtoe (Pleurobema pyriforme), ovate clubshell (Pleurobema perovatum), oyster mussel (Epioblasma capsaeformis), pale lilliput (Toxolasma cylindrellus), ring pink (Obovaria retusa), round ebonyshell (Reginaia rotulata), round hickorynut (Obovaria subrotunda), shiny pigtoe (Fusconaia cor), shinyrayed pocketbook (Hamiota subangulata), slabside pearlymussel (Pleuronaia dolabelloides), snuffbox mussel (Epioblasma triquetra), southern clubshell (Pleurobema decisum), southern combshell (Epioblasma penita), southern pigtoe (Pleurobema georgianum), and triangular kidneyshell (Ptychobranchus greenii) | Alabama, Georgia, Mississippi, and Tennessee | Qualitative and quantitative surveys, population monitoring, genomic sampling, and excretion/respiration studies | Capture, handle, identify, swab, hold temporarily in containers in stream, and release | Renewal and amendment.
ES146761-4 | Big Cypress National Preserve; Ochopee, FL | Florida panther (Puma concolor coryi) | Florida | Population monitoring, occurrence and monitoring, health and disease surveillance, mark, telemetry, tracking surveys and den surveys | Capture, handle, chemically immobilize, hold temporarily, transport, mark, identify, radio collar, collect biological samples, and release | Renewal.
ES824723-13 | Archbold Expeditions, Inc.; Venus, FL | Birds: Florida grasshopper Sparrow (Ammodramus Savannarum floridanus), Florida scrub jay (Aphelocoma coerulescens), and red-cockaded woodpecker (Dryobates borealis); Reptiles: eastern indigo snake (Drymarchon couperi); Flowering Plants: Florida perforate cladonia (Cladonia perforate), Garrett's mint (Dicerandra christmanii), Lewton's milkworth (Polygala lewtonii), and Florida ziziphus (Ziziphus celata) | Florida | Population management and monitoring, genetic analyses, studies on habitat use, germination experiments, propagation, and reintroduction | Florida grasshopper sparrow:capture, band, radio tag,collect biological samples, salvage non-viable eggs, collect eggs and nestlings to be swapped with captive eggs and/or nestlings; Florida scrub jay: capture, band, collect biological samples, radio tag, provide supplemental food, and administer Ivermectin; Red-cockaded woodpecker: capture, collect biological samples, band, radio tag, construct and monitor artificial nest cavities and restrictors, translocate, and salvage non-viable eggs; Eastern indigo snake: capture, handle, take skin swabs, release, and salvage; Flowering Plants: collect seeds, leaves, stem cuttings, and portions of thallus | Renewal and amendment.
CS12767274 | Christopher Knabel; Lexington, KY | Gray bat (Myotis grisescens), Indiana bat (Myotis sodalis), northern long-eared bat (Myotis septentrionalis), tri-colored bat (Perimyotis subflavus), and Virginia big-eared bat (Corynorhinus townsendii virginianus) | Throughout the ranges of the species | Presence/probable absence surveys | Enter hibernacula or maternity roost caves, capture, handle, identify, band, radio tag, collect biological samples, and release | New.
ES011542-12 | Conservation Fisheries; Knoxville, TN | Amber darter (Percina antesella), Barrens topminnow (Fundulus julisia), bluemask darter (Etheostoma akatulo), boulder darter (Etheostoma wapiti), Cahaba shiner (Notropis cahabae), Cape Fear shiner (Notropis mekistocholas), chucky madtom (Noturus crypticus), Conasauga logperch (Percina jenkinsi), Cumberland darter (Etheostoma susanae), diamond darter (Crystallaria cincotta), duskytail darter (Etheostoma percnurum), laurel dace (Chrosomus saylori), Palezone shiner (Notropis albizonatus), pygmy madtom (Noturus stanauli), Roanoke logperch (Percina rex), rush darter (Etheostoma phytophilum), smoky madtom (Noturus baileyi), vermilion darter (Elassoma chermocki), and yellowcheek darter (Etheostoma moorei) | Alabama, Arkansas, Florida, Georgia, Kentucky, Mississippi, North Carolina, South Carolina, Tennessee, and Virginia | Presence/probable absence surveys, population monitoring, research, and captive propagation | Capture, handle, identify, and release | Renewal with amendment.
ES697819-7 | U.S. Fish and Wildlife Service; Atlanta, GA | All endangered species in the Southeast Region | Alabama, Arkansas, Florida, Georgia, Kentucky, Louisiana, Mississippi, North Carolina, South Carolina, Tennessee, Commonwealth of Puerto Rico, and U.S. Virgin Islands | All activities in furtherance of the U.S. Fish and Wildlife Service's mission to conserve endangered wildlife and plants and the ecosystems upon which they depend | Conduct take of endangered species of wildlife wherever found and removal and reduction to possession of endangered species of plants from lands under Federal jurisdiction in the Southeast Region | Renewal.

Public Availability of Comments

Written comments that we receive will become part of the administrative record associated with this action. Before including your address, phone number, email address, or other personal identifying information in your comment, be aware that your entire comment—including your personal identifying information—may be made publicly available at any time. While you can ask in your comment to withhold your personal identifying information from public review, we cannot guarantee that we will be able to do so. All submissions from organizations or businesses, and from individuals identifying themselves as representatives or officials of organizations or businesses, will be made available for public disclosure in their entirety.

Next Steps

After the comment period closes, we will make decisions regarding permit issuance. If we issue any of the requested permits, we will publish a subsequent notice in the Federal Register. The notice announcing the permit issuance may be located by searching https://www.regulations.gov for the application number listed above in this document. Enter the search exactly as the application number appears above, with spaces and hyphens as necessary. For example, to find information about the potential issuance of Permit No. PER 1234567-0, go to https://www.regulations.gov and enter “PER 1234567-0” in the Search field.

An interested party opposed to our issuance of a recovery permit may object by following the requirements in 50 CFR 17.22(d). The Service will notify the interested party of the Service's decision on the permit application under that section.

Authority

We publish this notice under section 10(c) of the Endangered Species Act of 1973, as amended (16 U.S.C. 1531 et seq.).

Christopher Cooley,
Deputy Assistant Regional Director, Ecological Services, USFWS Southeast Region.

[FR Doc. 2025-19172 Filed 9-30-25; 8:45 am]

BILLING CODE 4333-15-P